FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Matthew B. Miller, P.E., Chief, Hazards Study Branch, Federal Insurance and Mitigation Administration, Federal Emergency Management Agency, 500 C Street SW., Washington, DC 20472, (202) 646-3461, or (email) matt.miller@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act

This rule is categorically excluded from the requirements of 44 CFR Part 10, Environmental Consideration. No environmental impact assessment has been prepared.

Regulatory Flexibility Act

The Acting Executive Associate Director, Mitigation Directorate, certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 67

Administrative practice and procedure, Flood insurance, Reporting and recordkeeping requirements.

Accordingly, 44 CFR Part 67 is amended as follows:

PART 67—[AMENDED]

1. The authority citation for Part 67 continues to read as follows:

Authority: 42 U.S.C. 4001 et seq. Reorganization Plan No. 3 of 1978, 3 CFR, 1978 Comp., p. 329; E.O. 12127, 44 FR 19367, 3 CFR, 1979 Comp., p. 376.

§ 67.11 [Amended]

2. The tables published under the authority of § 67.11 are amended as follows:

Source of Flooding and Location | #Depth in feet above ground. *Elevation in feet (NAVD) Elevation in feet (NAVD)
Alabama
Elmore County (Unincorporated Areas) (FEMA Docket No.-D-7514)
Tributary to Mill Creek:
At a point approximately 1,000 feet upstream of the confluence with Mill Creek | *204
At a point approximately 2,500 feet upstream of the confluence with Mill Creek | *214
Alabama River:
Approximately 950 feet downstream of Interstate 31 | *161
Approximately 3,700 feet downstream of the confluence of Tallapoosa River | *168
Tallapoosa River:
Approximately 2.6 miles upstream of the confluence of Gravel Pit Creek | *169
Approximately 4.6 miles downstream of the confluence of Chubbehatchee Creek | *176
Maps available for inspection at the Office of the Elmore County Engineer, 155 County Shop Road, Wetumpka, Alabama.
New Jersey
Deal (Borough), Monmouth County (FEMA Docket No. D-7514)
Poplar Brook:
Approximately 20 feet upstream of New York and Long Branch Railroad | *29
Approximately 480 feet downstream of Ocean Avenue | *11
Maps available for inspection at the Deal Borough Municipal Building, Durant Square, Deal, New Jersey.
———
Watchung (Borough), Somerset County (FEMA Docket No. D-7255)
Stony Brook:
Approximately 40 feet downstream of Johnston Drive | *115
Approximately 150 feet upstream of Somerset Street | *187
East Branch Stony Brook:
Approximately 675 feet downstream of Valley Drive | *213
Approximately 20 feet downstream of Meadowlark Drive | *237
Green Brook:
At Raymond Avenue | *128
Approximately 1,650 feet upstream of Apple Tree Road | *405
Maps available for inspection at the Watchung Borough Hall, 15 Mountain Boulevard, Watchung, New Jersey.
New York
Angola (Village), Erie County (FEMA Docket No. D-7514)
Big Sister Creek:
Downstream corporate limits
Approximately 150 feet upstream of upstream corporate limits | *644
Unnamed Tributary to Big Sister Creek:
At confluence with Big Sister Creek | *643
Approximately 750 feet upstream of confluence with Big Sister Creek | *643
Maps available for inspection at the Angola Village Office, 41 Commercial Street, Angola, New York.
———
East Aurora (Village), Erie County (FEMA Docket No. D-7514)
Tannery Brook:
At the confluence of East Branch Cazenovia Creek | *866
Approximately 710 feet upstream of Brooklea Drive | *944
Maps available for inspection at the East Aurora Village Hall, 571 Main Street, East Aurora, New York.
Vermont
Hardwick (Town/Village), Caledonia County (FEMA Docket No. D-7510)
Lamoille River Divergence:
Approximately 460 feet upstream of the confluence with Lamoille River | *794
At the divergence from Lamoille River | *804
Maps available for inspection at the Hardwick Town Hall, 20 Church Street, Hardwick, Vermont.
West Virginia
Berkeley County (Unincorporated Areas) (FEMA Docket No. D-7514)
Evans Run:
A point approximately 300 feet downstream of U.S. Route 11 | *488
A point approximately 300 feet downstream of State Route 45 | *556
Maps available for inspection at the Berkeley County Planning Commission, 119 West King Street, Martinsburg, West Virginia.

(Catalog of Federal Domestic Assistance No. 83.100, “Flood Insurance.”)
Dated: March 5, 2002.
Robert F. Shea,
Acting Administrator, Federal Insurance and Mitigation Administration.

[FR Doc. 02-5833 Filed 3-11-02; 8:45 am]

BILLING CODE 6718-04-P